ENVIRONMENTAL PROTECTION AGENCY

[EPA-HQ-OPPT-2019-0104; FRL-9995-75]

Safer Choice Partner of the Year Awards Call for Submissions

AGENCY: Environmental Protection Agency (EPA).

ACTION: Notice.

SUMMARY: The EPA Safer Choice program is accepting submissions for its 2019 Safer Choice Partner of the Year Awards. EPA developed the Partner of the Year Awards to recognize the leadership contributions of Safer Choice partners and stakeholders who, over the past year, have shown outstanding achievement in the design, manufacture, selection, and use of products with safer chemicals. All Safer Choice stakeholders and program participants in good standing are eligible for recognition. Interested parties must inform the program that they would like to be considered for an award and submit supporting information.

DATES: Submissions are due on or before July 31, 2019.

ADDRESSES: Please submit materials by email to SaferChoice_Support@abtassoc.com and Rutsch.Linda@epa.gov. The docket for this action, identified by docket information (ID) number EPA-HQ-OPPT-2019-0104, is available at http://www.regulations.gov or at the Office of Pollution Prevention and Toxics Docket (OPPT Docket), Environmental Protection Agency Docket Center (EPA/DC), West William Jefferson Clinton Bldg., Rm. 3334, 1301 Constitution Ave. NW, Washington, DC. The Public Reading Room is open from 8:30 a.m. to 4:30 p.m., Monday through Friday, excluding legal holidays. The telephone number for the Public Reading Room is (202) 566-1744, and the telephone number for the OPPT Docket is (202) 566-0280. Please review the visitor instructions and additional information about the docket available at http://www.epa.gov/dockets.

FOR FURTHER INFORMATION CONTACT: Linda Rutsch, Chemistry, Economics and Sustainable Strategies Division, Office of Pollution Prevention and Toxics, Environmental Protection Agency, Mail Code 7406M, 1200 Pennsylvania Ave. NW, Washington, DC 20460-0001; telephone number: (202) 343-9924; email address: rutsch.linda@epa.gov.

SUPPLEMENTARY INFORMATION:

I. Does this action apply to me?

You may be potentially affected by this action if you are a Safer Choice program partner or stakeholder. The following list of North American Industrial Classification System (NAICS) codes is not intended to be exhaustive, but rather provides a guide to help readers determine whether this document applies to them. Potentially affected entities may include:

• 325510 Paint and Coating Manufacturing.

• 325611 Soap and Other Detergent Manufacturing.

• 325612 Polish and Other Sanitation Good Manufacturing.

• 325910 Printing Ink Manufacturing.

• 325992 Photographic Film, Paper, Plate, and Chemical Manufacturing.

• 325998 All Other Miscellaneous Chemical Product and Preparation Manufacturing.

• 561210 Facilities Support Services.

• 561720 Janitorial Services.

• 561740 Carpet and Upholstery Cleaning Services.

• 611310 Colleges, Universities, and Professional Schools.

• 8123 Dry Cleaning and Laundry Services.

• 921190 Other General Government Support.

If you have any questions regarding the applicability of this program to a particular entity, consult the technical information contact listed under FOR FURTHER INFORMATION CONTACT.

II. Background

As part of its environmental mission, the Safer Choice program partners with businesses and others to help consumers and commercial buyers identify products with safer chemical ingredients, without sacrificing quality or performance. Toward this end, the Safer Choice program certifies products containing ingredients that have met the program's specific and rigorous human health and environmental toxicological criteria. The Safer Choice program allows the use of its label on products that perform and contain safer ingredients, as determined by expert evaluation. The Safer Choice program recognition represents a high level of achievement in formulating products that are safer for people and the environment. The purpose of the Partner of the Year Awards is to recognize the leadership contributions of Safer Choice partners and stakeholders who, over the past year, have shown outstanding achievement in the design, manufacture, selection, and use of products with safer chemicals. Award winners will be recognized at a Safer Choice Partner of the Year Awards ceremony in the fall of 2019.

III. How can I participate?

To be considered for a Partner of the Year Award, candidates must notify Safer Choice of their interest and must submit supporting information on their accomplishments and contributions focusing on calendar year 2018. There is no form required for this year's application. Candidates interested in learning more about the Partner of the Year Awards should refer to the Safer Choice website: https://www.epa.gov/saferchoice/safer-choice-partner-year-awards.

Authority: 15 U.S.C. 2601 et seq.

Dated: June 24, 2019.
Alexandra Dapolito Dunn,
Assistant Administrator, Office of Chemical Safety and Pollution Prevention.

[FR Doc. 2019-13841 Filed 6-27-19; 8:45 am]

BILLING CODE 6560-50-P